FEDERAL DEPOSIT INSURANCE CORPORATION

Sunshine Act; Notice of Agency Meeting

Pursuant to the provisions of the “Government in the Sunshine Act” (5 U.S.C. 552b), notice is hereby given that the Federal Deposit Insurance Corporation's Board of Directors will meet in open session at 4 p.m. on Monday, November 15, 2004, to consider the following matters:

Summary Agenda: No substantive discussion of the following items is anticipated. These matters will be resolved with a single vote unless a member of the Board of Directors requests that an item be moved to the discussion agenda.

Disposition of minutes of previous Board of Directors' meetings

Summary reports, status reports, and reports of actions taken pursuant to authority delegated by the Board of Directors

Memorandum and resolution re: Revised Investment Policy for Liquidation Funds Managed by the FDIC

Discussion Agenda:

Memorandum and resolution re: Final Rule: Part 327—Certified Statements and Revision of Assessment Computations

Memorandum and resolution re: The FDIC Insurance Funds: Outlook and Premium Rate Recommendations for the First Semiannual Assessment Period of 2005

The meeting will be held in the Board Room on the sixth floor of the FDIC Building located at 550-17th Street, NW., Washington, DC.

The FDIC will provide attendees with auxiliary aids (e.g., sign language interpretation) required for this meeting. Those attendees needing such assistance should call (202) 416-2089 (Voice); (202) 416-2007 (TTY), to make necessary arrangements.

Requests for further information concerning the meeting may be directed to Mr. Robert E. Feldman, Executive Secretary of the Corporation, at (202) 898-7043.

Dated: November 8, 2004.
Federal Deposit Insurance Corporation.
Robert E. Feldman,
Executive Secretary.

[FR Doc. E4-3161 Filed 11-10-04; 8:45 am]

BILLING CODE 6714-01-P